ENVIRONMENTAL PROTECTION AGENCY

40 CFR Part 52

[EPA-R08-OAR-2009-0790; FRL-9914-08-Region 8]

Approval and Promulgation of Air Quality Implementation Plans; Colorado; Revisions to Regulation Number 1; Correction

AGENCY: Environmental Protection Agency (EPA).

ACTION: Direct final rule; correction.

SUMMARY: This document contains a correction to the direct final rule, which published on May 10, 2010. Errors in the amendatory instruction are identified and corrected in this action.

DATES: This document is effective August 21, 2014.

FOR FURTHER INFORMATION CONTACT: Kathy Ayala, Air Program, Mailcode 8P-AR, Environmental Protection Agency, Region 8, 1595 Wynkoop Street, Denver, Colorado, 80202-1129, (303) 312-6142 or ayala.kathy@epa.gov.

SUPPLEMENTARY INFORMATION:

Background

In a direct final rule published on May 10, 2010, 75 FR 25772, amendatory instruction number 2 for § 52.320(c)(114) was incorrectly stated. This document corrects this amendatory instruction and set-out text to read as follows:

Need for Correction

As published, the final regulations contain an error in the amendatory instruction and set-out text:

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Accordingly, 40 CFR part 52 is corrected by making the following correcting amendment:

PART 52—APPROVAL AND PROMULGATION OF IMPLEMENTATION PLANS

1. The authority citation for part 52 continues to read as follows:

Authority: 42 U.S.C. 7401 et seq.

Subpart G—Colorado

2. Section 52.320 is amended by adding paragraph (c)(114) to read as follows:

§ 52.320 Identification of plan.

* * * * *

(c) * * *

(114) On August 1, 2007, the State of Colorado submitted revisions to Colorado Regulation Number 1 to be incorporated into the Colorado SIP. The submittal revised Section III.B.2. by adding “and air curtain destructors subject to 40 CFR 60” to the first sentence of Section III.B.2.

(i) Incorporation by reference.

(A) 5 CCR 1001-3, Code of Colorado Regulations, Regulation Number 1, Emission Control for Particulates, Smokes, Carbon Monoxide and Sulfur Oxides, PARTICULATE MATTER, Section III.B.2, “Incinerators,” effective on November 30, 2006, published in Colorado Register, Volume 29, Number 11.

* * * * *

Dated: August 5, 2014.
Shaun L. McGrath,
Regional Administrator, Region 8.

[FR Doc. 2014-19686 Filed 8-20-14; 8:45 am]

BILLING CODE 6560-50-P